DEPARTMENT OF LABOR

Office of Labor-Management Standards

29 CFR Parts 405 and 406

RIN 1215-AB79; RIN 1245-AA03

Labor-Management Reporting and Disclosure Act; Interpretation of the “Advice” Exemption

AGENCY: Office of Labor-Management Standards, Department of Labor.

ACTION: Proposed rule; extension of comment period.

SUMMARY: This document extends the period for comments on the proposed rule published on June 21, 2011 (76 FR 36178), regarding the interpretation of section 203 of the Labor-Management Reporting and Disclosure Act (LMRDA), 29 U.S.C. 433, and corresponding revisions to the Form LM-10 Employer Report and to the Form LM-20 Agreement and Activities Report. The comment period, which was to expire on August 22, 2011, is extended to September 21, 2011.

DATES: Comments on the proposed rule, published on June 21, 2011 (76 FR 36178), must be received on or before September 21, 2011.

ADDRESSES: You may submit comments, identified by RIN 1215-AB79 and 1245-AA03. (The Regulatory Information Number (RIN) identified for this rulemaking changed with publication of the Spring 2010 Regulatory Agenda due to an organizational restructuring. The old RIN (1215-AB79) was assigned to the Employment Standards Administration, which no longer exists; a new RIN (1245-AA03) has been assigned to the Office of Labor-Management Standards.) The comments can be submitted only by the following methods:

Internet: Federal eRulemaking Portal. Electronic comments may be submitted through http://www.regulations.gov. To locate the proposed rule, use RIN number 1245-AA03. Follow the instructions for submitting comments.

Delivery: Comments should be sent to: Andrew R. Davis, Chief of the Division of Interpretations and Standards, Office of Labor-Management Standards, U.S. Department of Labor, 200 Constitution Avenue, NW., Room N-5609, Washington, DC 20210. Because of security precautions the Department continues to experience delays in U.S. mail delivery. You should take this into consideration when preparing to meet the deadline for submitting comments.

The Office of Labor-Management Standards (OLMS) recommends that you confirm receipt of your delivered comments by contacting (202) 693-0123 (this is not a toll-free number). Individuals with hearing impairments may call (800) 877-8339 (TTY/TDD). Only those comments submitted through http://www.regulations.gov, hand-delivered, or mailed will be accepted. Comments will be available for public inspection at http://www.regulations.gov and during normal business hours at the above address.

The Department will post all comments received on http://www.regulations.gov without making any change to the comments, including any personal information provided. The http://www.regulations.gov Web site is the Federal eRulemaking Portal and all comments posted there are available and accessible to the public. The Department cautions commenters not to include personal information such as Social Security numbers, personal addresses, telephone numbers, and e-mail addresses in their comments as such submitted information will become viewable by the public via the http://www.regulations.gov Web site. It is the responsibility of the commenter to safeguard this information. Comments submitted through http://www.regulations.gov will not include the commenter's e-mail address unless the commenter chooses to include that information as part of his or her comment.

FOR FURTHER INFORMATION CONTACT: Andrew R. Davis, Chief of the Division of Interpretations and Standards, Office of Labor-Management Standards, U.S. Department of Labor, 200 Constitution Avenue, NW., Room N-5609, Washington, DC 20210, olms-public@dol.gov, (202) 693-0123 (this is not a toll-free number), (800) 877-8339 (TTY/TDD).

SUPPLEMENTARY INFORMATION: In the Federal Register of June 21, 2011 (76 FR 36178), the Department published a notice of proposed rulemaking that would revise the interpretation of a statutory provision relating to the administration and enforcement of the employer and labor relations consultant “persuader” reporting requirements of section 203 of the Labor-Management Reporting and Disclosure Act (LMRDA), 29 U.S.C. 433. The Department also proposed revisions to the Form LM-10 Employer Report and the Form LM-20 Agreements and Activities Report. Under section 203 of the LMRDA, reports are required on agreements or arrangements between employers and consultants regarding activities to persuade employees concerning their rights to organize and bargain collectively and to supply information to the employer concerning its employees or a labor organization involved in a labor dispute with such employer.

Interested persons were invited to submit comments on or before August 22, 2011, 60 days after the publication of the notice. Public commenters have requested an extension of time to submit comments. In response to these requests, the Department has decided to extend the comment period for an additional 30 days. Comments on the proposed rule must be received on or before September 21, 2011. An extension of this duration is appropriate, because it will afford parties a meaningful opportunity to submit comments on the proposal without unduly delaying final action on the proposed regulation. The proposed rule, including the proposed Forms LM-10 and LM-20 and their instructions, is accessible via the OLMS Web site at http://www.olms.dol.gov. Anyone who is unable to access this information on the Internet can obtain the information by contacting the Office of Labor-Management Standards at 200 Constitution Avenue, NW., Room N-5609, Washington, DC 20210, at olms-public@dol.gov, or at (202) 693-0123 (this is not a toll-free number). Individuals with hearing impairments may call (800) 877-8339 (TTY/TDD).

Dated: July 25, 2011.
Signed in Washington, DC, this 25th day of July 2011.
John Lund,
Director, Office of Labor-Management Standards.

[FR Doc. 2011-19278 Filed 7-28-11; 8:45 am]

BILLING CODE 4510-CP-P